DEPARTMENT OF ENERGY

Federal Energy Regulatory Commission

[Docket No. ER98-4421-005, et al.]

Consumers Energy Company, et al.; Electric Rate and Corporate Filings

December 3, 2004.

The following filings have been made with the Commission. The filings are listed in ascending order within each docket classification.

1. Consumers Energy Company, CMS Energy Resource Management , Grayling Generating Station Limited Partnership, Genesee Power Station Limited Partnership, CMS Generation Michigan Power, L.L.C., Dearborn Industrial Generation, L.L.C.

[Docket Nos. ER98-4421-005, ER96-2350-025, ER96-2350-025, ER99-791-003, ER99-806-002, ER99-3677-004, and ER01-570-005]

Take notice that on December 1, 2004, Consumers Energy Company (Consumers), CMS Energy Resource Management Company (CMS ERM), Grayling Generating Station Limited Partnership (Grayling) Genesee Power Station Limited Partnership (Genesee), CMS Generation Michigan Power, L.L.C. (Michigan Power), and Dearborn Industrial Generation, L.L.C. (DIG) (collectively, Applicants) tendered for filing their response to the Commission Letter Order, issued October 29, 2004. Applicants also state that they have attached replacement pages 10 and 11 of Appendix A, which accurately reflects the data presented in Exhibit 4a of their November 18 Filing.

Comment Date: 5 p.m. eastern time on December 13, 2004.

2. Devon Power LLC

[Docket Nos. ER03-563-044 and EL04-102-004]

Take notice that on November 29, 2004, Devon Power LLC submitted copies of local scarcity pricing for ISO New England, Inc., in compliance with the June 2 Order issued by the Commission in Docket Nos. ER03-563-030 and EL04-102-000.

Comment Date: 5 p.m. Eastern Time on December 20, 2004.

3. Devon Power LLC

[Docket Nos. ER03-563-045 and EL04-102-005]

Take notice that on November 29, 2004, Devon Power, LLC submitted a report updating progress made in the siting within the New England control area, with particular emphasis on progress within Designated Congested Areas for ISO New England Inc., in compliance with the Commission's order issued June 2, 2004, 107 FERC ¶ 61,240 (2004).

Comment Date: 5 p.m. eastern time on December 20, 2004.

4. Midwest Independent Transmission System Operator, Inc., Public Utilities With Grandfathered Agreements in the Midwest ISO Region

[Docket Nos. ER04-691-011 and EL04-104-010]

Take notice that on December 1, 2004, the Midwest Independent Transmission System Operator, Inc. (Midwest ISO) submitted a compliance filing pursuant to the Commission's August 6, 2004 order, Midwest Independent Transmission System Operator, Inc., et al., 108 FERC ¶ 61,163 (2004). The compliance filing contains: (1) Tariff language establishing procedures for the Midwest ISO to correct prices in the event of temporary market or system operational problems; (2) a detailed plan for cutover to decentralized power system operations in the event of a failure of Day 2 market operations; (3) a report on the progress made toward achieving a trading deadline of 1100 EST for the Day-Ahead Energy Market; and (4) an independently evaluated plan for verifying the commercial operations readiness of the Midwest ISO Day 2 Energy Markets. The Midwest ISO requests an effective date of March 1, 2005, for the tariff pages submitted.

The Midwest ISO has requested waiver of the service requirements set forth in 18 CFR 385.2010. The Midwest ISO states that it has electronically served a copy of this filing, with attachments, upon all Midwest ISO Members, Member representatives of Transmission Owners and Non-Transmission Owners, the Midwest ISO Advisory Committee participants, as well as all state commissions within the region. In addition, the filing has been electronically posted on the Midwest ISO's Web site at http://www.midwestiso.org under the heading “Filings to FERC” for other interested parties in this matter. The Midwest ISO will provide hard copies to any interested parties upon request.

Comment Date: 5 p.m. eastern time on December 17, 2004.

5. NorthWestern Energy

[Docket No. ER04-1231-000]

Take notice that on November 30, 2004, NorthWestern Corporation, doing business as NorthWestern Energy, (NorthWestern Energy) submitted the Generation Interconnection Agreement between NorthWestern Corporation and NorthWestern Energy, L.L.C., pursuant to section 205 of the Federal Power Act (FPA).

Comment Date: 5 p.m. eastern time on December 21, 2004.

6. Northeast Energy Associates, A Limited Partnership

[Docket No. ER05-236-001]

Take notice that on November 30, 2004, Northeast Energy Associates, a Limited Partnership (Applicant) submitted a supplement to the application for market-based rate authority filed on November 18, 2004.

Applicant states that copies of the filing were served upon the Florida Public Service Commission.

Comment Date: 5 p.m. eastern time on December 21, 2004.

7. Avista Corporation

[Docket No. ER05-271-000]

Take notice that on November 30, 2004, Avista Corporation, (Avista Corp) submitted for filing a Non-conforming Long Term Service Agreement Between Avista Corporation and Public Utility District No. 1 of Pend Oreille County Under Avista Corp's FERC Electric Tariff Volume No. 9 and Avista Corp's FERC Electric Tariff Volume No. 10, Rate Schedule 318, with Public Utility District No. 1 of Pend Oreille County for Dynamic Capacity and Energy Service and Operating Reserves at cost-based rates under Avista Corporation's FERC Electric Tariff Volume No. 10 and Generation Exchange Service under Avista Corporation's FERC Electric Tariff First Revised Volume No. 9. Avista Corp requests an effective date of December 1, 2004.

Avista Corp states that copies of the filing were served upon the Public Utility District No. 1 of Pend Oreille County.

Comment Date: 5 p.m. eastern time on December 21, 2004.

8. New England Power Company

[Docket No. ER05-280-000]

Take notice that on December 1, 2004, New England Power Company (NEP) submitted for filing: (1) A Large Generator Interconnection Agreement between NEP, ISO-NE England, Inc. (ISO-NE) and Dominion Energy Salem Harbor, LLC; (2) a Large Generator Interconnection Agreement between NEP, ISO-NE and Dominion Energy Brayton Point, LLC; and (3) a Large Generator Interconnection Agreement between NEP, ISO-NE and Dominion Energy Manchester Street, Inc.

NEP states that copies of this filing have been served on the Dominion Companies, ISO-NE, and regulators in the States of Rhode Island and Massachusetts.

Comment Date: 5 p.m. eastern time on December 10, 2004.

9. Georgia Power Company

[Docket No. ER05-282-000]

Take notice that on November 30, 2004, Georgia Power Company, (Georgia Power) filed a Control Area Compact (Agreement). Georgia Power states that the Agreement provides for coordination services between Georgia Power Company, Oglethorpe Power Corporation and Georgia System Operations Corporation, and that jurisdictional services are proposed to begin on February 1, 2005.

Comment Date: 5 p.m. eastern time on December 21, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please e-mail FERCOnlineSupport@ferc.gov, or call (866) 208-3676 (toll free). For TTY, call (202) 502-8659.

Magalie R. Salas,
Secretary.

[FR Doc. E4-3590 Filed 12-9-04; 8:45 am]

BILLING CODE 6717-01-P